DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than January 2, 2004.

Interested persons are invited to submit written comments regarding the subject matter of the investigations to the Director, Division of Trade Adjustment Assistance, at the address shown below, not later than January 2, 2004.

The petitions filed in this case are available for inspection at the Office of the Director, Division of Trade Adjustment Assistance, Employment and Training Administration, U.S. Department of Labor, Room C-5311, 200 Constitution Avenue, NW., Washington, DC 20210.

Signed at Washington, DC this 24th day of November 2003.
Timothy Sullivan,
Director, Division of Trade Adjustment Assistance.

Appendix.—Petition Instituted Between 11/10/2003 and 11/14/2003
TA-W | Subject firm (petitioners) | Location | Date of institution | Date of petition
53,493 | Derby Industries, LLC (Comp) | Galesburg, IL | 11/10/2003 | 10/30/2003
53,494 | Avery Dennison (Comp) | Chicopee, MA | 11/10/2003 | 11/07/2003
53,495 | Fisher Controls International, LLC (Wkrs) | Sherman, TX | 11/10/2003 | 11/05/2003
53,496 | Pass and Seymour (Comp) | San Antonio, TX | 11/10/2003 | 11/03/2003
53,497 | Eljer Plumbing Ware (Comp) | Salem, OH | 11/10/2003 | 11/07/2003
53,498 | Anadarko Petroleum Corp. (Comp) | The Woodlands, TX | 11/10/2003 | 10/31/2003
53,499 | Supreme Elastic Corp. (Comp) | Hickory, NC | 11/10/2003 | 11/02/2003
53,500 | Intertape Polymer Group (Comp) | Green Bay, WI | 11/10/2003 | 11/09/2003
53,501 | Fishing Vessel (F/V) Exception (Comp) | Homer, AK | 11/12/2003 | 11/01/2003
53,502 | D'Vron Ceramic Studio, Inc. (Comp) | New Castle, PA | 11/12/2003 | 10/22/2003
53,503 | NTN—BCA Corporation (Comp) | Greensburg, IN | 11/12/2003 | 11/11/2003
53,504 | Coe Manufacturing (IBT) | Tigard, OR | 11/12/2003 | 11/10/2003
53,505 | Hunt Corporation (Comp) | Statesville, NC | 11/12/2003 | 11/07/2003
53,506 | Romac Industries, Inc. (Comp) | Sultan, WA | 11/12/2003 | 11/10/2003
53,507 | Northern Aluminum Foundry (Wkrs) | N. Fond Du Lac, WI | 11/12/2003 | 11/11/2003
53,508 | Paper Magic Group, Inc. (The) (Comp) | Troy, PA | 11/12/2003 | 11/07/2003
53,509 | Armstrong Floor Co. (AR) | Warren, AR | 11/12/2003 | 11/10/2003
53,510 | CB and I (Wkrs) | Provo, UT | 11/12/2003 | 11/10/2003
53,511 | Rusch, Inc. (Comp) | Decatur, GA | 11/12/2003 | 11/04/2003
53,512 | Plus Mark, Inc. (UNITE) | Greenville, TN | 11/12/2003 | 11/07/2003
53,513 | Amphenol Backplane Systems (Wkrs) | Nashua, NH | 11/12/2003 | 11/05/2003
53,514 | Art Leather Mfg. Co., Inc. (Comp) | Elmhurst, NY | 11/13/2003 | 10/29/2003
53,515 | Thomasville Furniture Ind., Inc. (Comp) | Thomasville, NC | 11/13/2003 | 11/07/2003
53,516 | Delphi Mechatronic Systems (Wkrs) | Downers Grove, IL | 11/13/2003 | 11/12/2003
53,517 | Howell-Penncraft (Wkrs) | Howell, MI | 11/13/2003 | 10/28/2003
53,518 | S. Lichtenberg and Co., Inc. (GA) | Waynesboro, GA | 11/13/2003 | 11/10/2003
53,519 | Field Container (Comp) | Bellwood, IL | 11/13/2003 | 11/10/2003
53,520 | Giddings and Lewis (Wkrs) | Fond Du Lac, WI | 11/13/2003 | 11/11/2003
53,521 | Perry Judd's (Comp) | Waterloo, WI | 11/13/2003 | 11/12/2003
53,522 | Avery Dennison Office Products (Comp) | Flowery Branch, GA | 11/13/2003 | 10/31/2003
53,523 | Wellington Leisure Products, Inc. (Comp) | Madison, GA | 11/13/2003 | 11/03/2003
53,524 | Overly Door Company (Wkrs) | Greensburg, PA | 11/13/2003 | 10/15/2003
53,525 | Rene Composite (Wkrs) | Pearisburg, VA | 11/13/2003 | 11/12/2003
53,526 | Royal Home Fashions (Wkrs) | Mebane, NC | 11/13/2003 | 10/31/2003
53,527 | Vandorn Demag (Wkrs) | Strongsville, OH | 11/13/2003 | 11/12/2003
53,528 | Ferndale Fasteners/Textron Fastening Sys (UAW) | Madison Hgts., MI | 11/13/2003 | 11/11/2003
53,529 | General Binding Corp. (GBC) (Comp) | Booneville, MS | 11/14/2003 | 11/03/2003
53,530 | Stone County Garment (Comp) | Crane, MO | 11/14/2003 | 11/04/2003
53,531 | GDX Automotive (Wkrs) | Salisbury, NC | 11/14/2003 | 11/12/2003
53,532 | Pen-Ro Group (MA) | Pittsfield, MA | 11/14/2003 | 11/07/2003
53,533 | International Paper (Comp) | Bucksport, ME | 11/14/2003 | 11/05/2003
53,534 | International Paper (Comp) | Augusta, ME | 11/14/2003 | 10/29/2003
53,535 | International Paper (Comp) | Auburn, ME | 11/14/2003 | 10/29/2003
53,536 | Istonish, Inc. (Wkrs) | Austin, TX | 11/14/2003 | 10/30/2003
53,537 | Pacific Rim Log Scaling Bureau (Wkrs) | Lacey, WA | 11/14/2003 | 11/06/2003
53,538 | Allegheny Ludlum Corp. (Comp) | Brackenridge, PA | 11/14/2003 | 11/03/2003
53,539 | El Mansure (SC) | Clinton, SC | 11/14/2003 | 11/11/2003
53,540 | Teikoko Chem Pump (Wkrs) | Warrington, PA | 11/14/2003 | 10/31/2003

[FR Doc. 03-31454 Filed 12-19-03; 8:45 am]

BILLING CODE 4510-30-M